ENVIRONMENTAL PROTECTION AGENCY

40 CFR Parts 60 and 63

[EPA-HQ-OAR-2012-0522; FRL-9920-39-OAR]

RIN 2060-AQ20

Phosphoric Acid Manufacturing and Phosphate Fertilizer Production RTR and Standards of Performance for Phosphate Processing; Extension of Comment Period

AGENCY: Environmental Protection Agency.

ACTION: Notice of proposed rulemaking; extension of public comment period.

SUMMARY: On November 7, 2014, the Environmental Protection Agency (EPA) proposed amendments to the national emission standards for hazardous air pollutants for Phosphoric Acid Manufacturing and Phosphate Fertilizer Production source categories and to new source performance standards for several phosphate processing categories. The EPA is extending the deadline for written comments on the proposed amendments by 30 days to January 21, 2015. The EPA received requests for an extension from The Fertilizer Institute, several phosphate facilities and a testing company that supports the industry. The Fertilizer Institute has requested the extension in order to allow more time to review the proposed rule and associated emissions data, risk assessment and technology review.

DATES: Comments. The public comment period for the proposed rule published in the Federal Register on November 7, 2014, (79 FR 66512) is being extended for 30 days to January 21, 2015.

ADDRESSES: Comments. Written comments on the proposed rule may be submitted to the EPA electronically, by mail, by facsimile or through hand delivery/courier. Please refer to the proposal for the addresses and detailed instructions.

Docket. The EPA has established a docket for this rulemaking under Docket ID Number EPA-HQ-OAR-2012-0522. All documents in the docket are listed in the http://www.regulations.gov index. Although listed in the index, some information is not publicly available, e.g., confidential business information or other information whose disclosure is restricted by statute. Certain other material, such as copyrighted material, is not placed on the Internet and will be publicly available only in hard copy. Publicly available docket materials are available either electronically in http://www.regulations.gov or in hard copy at the EPA Docket Center, Room 3334, EPA WJC West Building, 1301 Constitution Avenue NW., Washington, DC. The Public Reading Room is open from 8:30 a.m. to 4:30 p.m., Monday through Friday, excluding legal holidays. The telephone number for the Public Reading Room is (202) 566-1744, and the telephone number for the EPA Docket Center is (202) 566-1742.

World Wide Web. The EPA Web site for this rulemaking is at http://www.epa.gov/ttn/atw/phosph/phosphpg.html.

FOR FURTHER INFORMATION CONTACT: Ms. Tina Ndoh, Sector Policies and Programs Division (D243-02), Office of Air Quality Planning and Standards, U.S. Environmental Protection Agency, Research Triangle Park, North Carolina 27711; telephone number: (919) 541-2750; fax number: (919) 541-5450; and email address: Ndoh.Tina@epa.gov.

SUPPLEMENTARY INFORMATION:

Comment Period

After considering requests received from industry to extend the public comment period, the EPA has decided to extend the public comment period for an additional 30 days. Therefore, the public comment period will end on January 21, 2015, rather than December 22, 2014. This extension will help ensure that the public has sufficient time to review the proposed rule and the supporting technical documents and data available in the docket.

Dated: December 5, 2014.
Mary E. Henigin,
Acting Director, Office of Air Quality Planning and Standards.

[FR Doc. 2014-29193 Filed 12-11-14; 8:45 am]

BILLING CODE 6560-50-P